DEPARTMENT OF THE INTERIOR

National Park Service

General Management Plan Revision, Final Environmental Impact Statement, Petrified Forest National Park, Arizona

AGENCY: National Park Service, Department of the Interior.

ACTION: Notice of availability of the Final Environmental Impact Statement for the General Management Plan Revision, Petrified Forest National Park.

SUMMARY: Pursuant to National Environmental Policy Act of 1969, 42 U.S.C. 4332(c), the National Park Service announces the availability of Final Environmental Impact Statement for the General Management Plan Revision, Petrified Forest National Park, Arizona.

DATES: The National Park Service will execute a Record of Decision (ROD) no sooner than 30 days following publication by the Environmental Protection Agency of the notice of availability of the Final Environmental Impact Statement.

ADDRESSES: Copies of the draft Environmental Impact Statement and General Management Plan Revision are available from Lee Baiza, Superintendent, Petrified Forest National Park, P.O. Box 2217, Petrified Forest National Park, Arizona 86028, (928)524-6228. The plan is also available on the Internet at: http://planning.nps.gov/plans.cfm.

Public reading copies of the document will be available for review at the following locations:

Petrified Forest National Park, P.O. Box 2217, Petrified Forest National Park, Arizona 86028, Telephone: (928) 524-6228.

Planning and Environmental Quality, Intermountain Support Office—Denver, National Park Service, 12795 W. Alameda Parkway, Lakewood, CO 80228, Telephone: (303) 987-6671.

FOR FURTHER INFORMATION CONTACT: Superintendent, Petrified Forest National Park, at the above address and telephone number.

Dated: May 5, 2004.
Michael D. Snyder,
Deputy Director, Intermountain Region, National Park Service.

[FR Doc. 04-19392 Filed 8-24-04; 8:45 am]

BILLING CODE 4312-52-P